POSTAL SERVICE

39 CFR Part 111

New Customs Declarations Label Requirements

AGENCY: Postal Service™.

ACTION: Final rule.

SUMMARY: The Postal Service is revising the Mailing Standards of the United States Postal Service, Domestic Mail Manual (DMM®) 608.2.4 to require all mailpieces containing goods that enter the Customs Territory of the United States (CTUS), from outside the CTUS, to bear a customs declaration label. Additionally, the Postal Service updates the standards for items weighing 16 ounces or more when sent to, from, or between, and in some circumstances, within certain U.S. territories, possessions, and Freely Associated States.

DATES: Effective Date: June 6, 2011.

FOR FURTHER INFORMATION CONTACT: Rick Klutts at 813-877-0372.

SUPPLEMENTARY INFORMATION: Consistent with the Code of Federal Regulations, Title 19, Part 145—U.S. Customs and Border Protection, Department of Homeland Security, the Postal Service will require that all mailpieces containing goods that enter the CTUS, from outside the CTUS, to bear a customs declaration label. In addition, to ensure compliance with safety and security requirements of the United States Postal Inspection Service®, we are updating our standards for items weighing 16 ounces or more (regardless of contents) when sent to, from, between, and, in some circumstances, within American Samoa, Guam, Palau, the Federated States of Micronesia, the Commonwealth of the Northern Mariana Islands, the Marshall Islands, and the U.S. Virgin Islands.

Definitions and Requirements for Items Sent to the CTUS

As defined in 19 CFR 101.1 and General Note 2 of the Harmonized Tariff Schedule of the United States, the CTUS includes only the 50 states, the District of Columbia, and Puerto Rico.

U.S. territories, possessions, and Freely Associated States under DMM 608.2.4 are considered “domestic” insofar as United States mail is sent to, from, or between these destinations; nonetheless, these destinations are outside the CTUS. As such, and consistent with 19 CFR 145.11, a clear and complete customs declaration label that describes the contents and value for the enclosed merchandise (that is, goods, or contents other than documents) must be secured to the mailpiece for each shipment when sent from a foreign post office. For the purpose of these new standards, “foreign post offices” include those in the following locations:

• American Samoa

• Commonwealth of the Northern Mariana Islands

• Federated States of Micronesia

• Guam

• Palau

• Republic of the Marshall Islands

• U.S. Virgin Islands

These revisions ensure compliance with regulations of U.S. Customs and Border Protection.

Updated Standards for Items Weighing 16 Ounces or More

Current DMM standards require a customs declaration label for Priority Mail® items weighing 16 ounces or more when sent from the United States to American Samoa, Guam, Palau, the Federated States of Micronesia, the Commonwealth of the Northern Mariana Islands, and the Marshall Islands, and when such items are sent to the United States from those locations. We are updating these standards to encompass the Package Services and Periodicals mail classes and to extend this requirement when items are sent between, and in some circumstances, within certain U.S. territories, possessions, and Freely Associated States. This update also clarifies that the same customs declaration requirements are applicable for mail sent to these destinations from Puerto Rico and the U.S. Virgin Islands.

These revisions ensure compliance with safety and security requirements of the Postal Inspection Service and other federal agencies.

The Postal Service adopts the following changes to Mailing Standards of the United States Postal Service, Domestic Mail Manual (DMM), which is incorporated by reference in the Code of Federal Regulations. See 39 CFR 111.1.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

* * * * *

600 Basic Standards for All Mailing Services

* * * * *

608 Postal Information and Resources

* * * * *

2.0 Domestic Mail

* * * * *

2.4 Customs Forms Required

[Revise the title and text of 2.4.1 as follows:]

2.4.1 Items Weighing 16 Ounces or More

Except for items sent via Express Mail, or Priority Mail combined with Registered Mail service, any mailpiece (regardless of contents) weighing 16 ounces or more must bear a properly completed PS Form 2976, Customs Declaration CN 22, or, if the customer prefers, a PS Form 2976-A, Customs Declaration and Dispatch Note—CP 72, when the item is:

a. Sent from the United States, Puerto Rico, or the U.S. Virgin Islands to the ZIP Code destinations listed in the table below.

b. Sent from the ZIP Code destinations listed in the table below to the United States, Puerto Rico, or the U.S. Virgin Islands.

c. Sent between two different destinations listed in the “Territory, Possession, or Freely Associated States” column in the table below.

d. Sent within American Samoa, the Federated States of Micronesia, the Commonwealth of the Northern Mariana Islands, or the Republic of the Marshall Islands. This standard does not apply to items sent within Guam or Palau.

ZIP code | Two-letter state abbreviation | City | Territory, possession, or freely associated state
96799 | AS | Pago Pago | American Samoa.
96910 | GU | Hagatna | Guam.
96912 | GU | Dededo | Guam.
96913 | GU | Barrigada | Guam.
96915 | GU | Santa Rita | Guam.
96916 | GU | Merizo | Guam.
96917 | GU | Inarajan | Guam.
96919 | GU | Agana Heights | Guam.
96921 | GU | Barrigada | Guam.
96923 | GU | Mangilao | Guam.
96928 | GU | Agat | Guam.
96929 | GU | Yigo | Guam.
96931 | GU | Tamuning | Guam.
96932 | GU | Hagatna | Guam.
96939 96940 | PW | Palau | Palau.
96941 | FM | Pohnpei | Federated States of Micronesia.
96942 | FM | Chuuk | Federated States of Micronesia.
96943 | FM | Yap | Federated States of Micronesia.
96944 | FM | Kosrae | Federated States of Micronesia.
96950 | MP | Saipan | Commonwealth of the Northern Mariana Islands.
96951 | MP | Rota | Commonwealth of the Northern Mariana Islands.
96952 | MP | Tinian | Commonwealth of the Northern Mariana Islands.
96960 | MH | Majuro | Republic of the Marshall Islands.
96970 | MH | Ebeye | Republic of the Marshall Islands.

[Renumber current items 2.4.2 through 2.4.4 as 2.4.5 through 2.4.7 and insert new 2.4.2 through 2.4.4 as follows:]

2.4.2 Items Containing Goods

Regardless of mail class or weight, items containing goods (i.e., contents other than documents; see IMM 123.63 for “document” eligibility) must bear a properly completed PS Form 2976, Customs Declaration CN 22, or, if the customer prefers, a PS Form 2976-A, Customs Declaration and Dispatch Note—CP 72, when the items are sent to the United States or Puerto Rico from the ZIP Code destinations listed in the table in 2.4.1, or from the U.S. Virgin Islands..

2.4.3 Improperly Prepared Items

Mailpieces deposited without a properly completed customs form under 2.4.1 and 2.4.2 will be returned to the sender.

2.4.4 Overseas Military Mail

For determining customs declarations' required usage when mailing to or from APO, FPO, or DPO addresses, see 703.2.3.6 through 703.2.3.8.

* * * * *

We will publish an appropriate amendment to 39 CFR part 111 to reflect these changes.

Neva R. Watson,
Attorney, Legislative.

[FR Doc. 2011-3446 Filed 2-16-11; 8:45 am]

BILLING CODE 7710-12-P